DEPARTMENT OF COMMERCE

International Trade Administration

[A-570-890]

Notice of Amended Final Determination of Sales at Less Than Fair Value and Antidumping Duty Order/Pursuant to Court Decision: Wooden Bedroom Furniture From the People's Republic of China

AGENCY: Import Administration, International Trade Administration, U.S. Department of Commerce.

SUMMARY: On October 31, 2006, the United States Court of International Trade (“Court”) entered a stipulated judgment in the consolidated case of Dorbest Limited, et. al. v. United States, Consol. Ct. No. 05-cv-00003 (“Court Order”). This litigation arises out of the Department's Final Determination of Sales at Less Than Fair Value: Wooden Bedroom Furniture From the People's Republic of China, 69 FR 67313 (November 17, 2004) (“Final Determination”), as amended, 70 FR 329 (January 4, 2005) (“Amended Final Determination and Order”). The court case filed by Lacquer Craft Manufacturing Company Ltd. (“Lacquer Craft”) (Lacquer Craft Manufacturing Company Ltd. v. United States, Court No. 05-00083), was consolidated into the case filed by Dorbest Limited, et. al. (Court No. 05-00003). Pursuant to the Court's Order, Lacquer Craft's court case (Court No. 05-00083) has been severed from the consolidated litigation (Court No. 05-00003), and Lacquer Craft's claims against the government dismissed. Because the litigation in Lacquer Craft's case is now concluded, the Department is issuing an amended final determination in accordance with the Stipulated Judgement in this action.

DATES: Effective Date: November 20, 2006.

FOR FURTHER INFORMATION CONTACT: Eugene Degnan, AD/CVD Operations, Office 8, Import Administration, International Trade Administration, U.S. Department of Commerce, 14th Street and Constitution Avenue, NW., Washington DC 20230; telephone (202) 482-0414.

SUPPLEMENTARY INFORMATION:

On November 17, 2004, the Department published its notice of final determination in the investigation of wooden bedroom furniture from the PRC. See Final Determination. On January 4, 2005, the Department published its notice of amended final determination and antidumping duty order in the investigation on wooden bedroom furniture from the PRC. See Amended Final Determination and Order.

On March 4, 2005, Lacquer Craft filed its complaint with the Court with respect to the Department's Amended Final Determination and Order in Lacquer Craft Manufacturing Company, Ltd. v. United States, Ct. No. 05-00083. Lacquer Craft's court case was subsequently consolidated with court number 05-00003 on June 29, 2005. Pursuant to the Court's Order, Lacquer Craft's court case (Court No. 05-00083) was severed from the consolidated litigation (Court No. 05-00003), and Lacquer Craft's court case against the government was dismissed.

The Court Order further orders the Department of Commerce (“the Department”) to (i) exclude wooden bedroom furniture from the Amended Final Determination and Order when it is both produced and exported by Lacquer Craft,¹ and (ii) amend the weighted-average dumping margin applied to respondents with separate-rate status ² to exclude Lacquer Craft from the calculation for subject merchandise entered, or withdrawn from warehouse, for consumption on or after the effective date of the Amended Final Determination resulting from the Court's stipulated judgment.

¹ For purposes of this order, wooden bedroom furniture produced and exported by Lacquer Craft includes furniture produced and exported by any of Lacquer Craft Manufacturing Company Ltd.'s factories in the People's Republic of China, which currently are in Dong Guan (Lacquer Craft Manufacturing Company Ltd. (Dong Guan) and Zhejiang (Lacquer Craft Manufacturing Company Ltd. (Zhejiang)).

² For purposes of this order, “respondents with separate-rate status” shall mean the non-mandatory respondents granted a separate rate by the Department in the underlying investigation of wooden bedroom furniture. Commerce's dumping margin applied to such respondents is calculated as the weighted-average of the rates of the mandatory respondents.

Amended Final Determination

Because all claims filed by Lacquer Craft against the Department have been dismissed, and because the litigation in Lacquer Craft's de-consolidated court case is concluded, we are now amending the Amended Final Determination and Order to reflect the results of the Court's Order. Lacquer Craft is excluded from the Order. The amended weighted-average rate applied to respondents with separate-rate status is 7.24 percent. The rate applied to the PRC-wide entity remains unchanged.

With the above revisions, the dumping margins for this Order are as follows:

Company | Weighted-average margin (percent)
Dongguan Lung Dong Furniture Co., Ltd., or Dongguan Dong He Furniture Co., Ltd. | 2.32
Rui Feng Woodwork Co., Ltd., or Rui Feng Lumber Development Co., Ltd. or Dorbest Limited | 7.87
Lacquer Craft Mfg. Co., Ltd. | Excluded
Markor International Furniture (Tianjin) Manufacturing Company, Ltd. | 0.83
Shing Mark Enterprise Co., Ltd., or Carven Industries Limited (BVI), or Carven I Industries Limited (HK), or Dongguan Zhenxin Furniture Co., Ltd., or Dongguan Yongpeng Furniture Co., Ltd. | 4.96
Starcorp Furniture (Shanghai) Co., Ltd., or Orin Furniture (Shanghai) Co., Ltd., or Shanghai Starcorp Furniture Co., Ltd. | 15.78
Alexandre International Corp., or Southern Art Development Ltd., or Alexandre Furniture (Shenzhen) Co., Ltd., or Southern Art Furniture Factory | 7.24
Art Heritage International, Ltd., or Super Art Furniture Co., Ltd., or Artwork Metal & Plastic Co., Ltd., or Jibson Industries Ltd., or Always Loyal International | 7.24
Billy Wood Industrial (Dong Guan) Co., Ltd., or Great Union Industrial (Dongguan) Co., Ltd., or Time Faith Ltd. | 7.24
Changshu HTC Import & Export Co., Ltd. | 7.24
Cheng Meng Furniture (PTE) Ltd., or China Cheng Meng Decoration & Furniture (Suzhou) Co., Ltd. | 7.24
Chuan Fa Furniture Factory | 7.24
Classic Furniture Global Co., Ltd. | 7.24
Clearwise Co., Ltd. | 7.24
COE Ltd. | 7.24
Dalian Guangming Furniture Co., Ltd. | 7.24
Dalian Huafeng Furniture Co., Ltd | 7.24
Decca Furniture Limited | 7.24
Dongguan Cambridge Furniture Co., or Glory Oceanic Co., Ltd. | 7.24
Dongguan Chunsan Wood Products Co., Ltd., or Trendex Industries Ltd. | 7.24
Dongguan Creation Furniture Co., Ltd., or Creation Industries Co., Ltd. | 7.24
Dongguan Grand Style Furniture, or Hong Kong Da Zhi Furniture Co., Ltd. | 7.24
Dongguan Great Reputation Furniture Co., Ltd. | 7.24
Dongguan Hero Way Woodwork Co., Ltd., or Dongguan Da Zhong Woodwork Co., Ltd., or Hero Way Enterprises Ltd., or Well Earth International Ltd. | 7.24
Dongguan Hung Sheng Artware Products Co., Ltd., or Coronal Enterprise Co., Ltd. | 7.24
Dongguan Kin Feng Furniture Co., Ltd. | 7.24
Dongguan Kingstone Furniture Co., Ltd., or Kingstone Furniture Co., Ltd. | 7.24
Dongguan Liaobushangdun Huada Furniture Factory, or Great Rich (HK) Enterprise Co. Ltd. | 7.24
Dongguan Qingxi Xinyi Craft Furniture Factory (Joyce Art Factory) | 7.24
Dongguan Singways Furniture Co., Ltd. | 7.24
Dongguan Sunrise Furniture Co., or Taicang Sunrise Wood Industry Co., Ltd., or Shanghai Sunrise Furniture Co., Ltd., or Fairmont Designs | 7.24
Dongying Huanghekou Furniture Industry Co., Ltd. | 7.24
Dream Rooms Furniture (Shanghai) Co., Ltd. | 7.24
Eurosa (Kunshan) Co., Ltd., or Eurosa Furniture Co., (PTE) Ltd. | 7.24
Ever Spring Furniture Co. Ltd., or S.Y.C. Family Enterprise Co., Ltd. | 7.24
Fine Furniture (Shanghai) Ltd. | 7.24
Foshan Guanqiu Furniture Co., Ltd. | 7.24
Fujian Lianfu Forestry Co., Ltd., or Fujian Wonder Pacific Inc. | 7.24
Gaomi Yatai Wooden Ware Co., Ltd., or Team Prospect International Ltd., or Money Gain International Co. | 7.24
Garri Furniture (Dong Guan) Co., Ltd., or Molabile International, Inc., or Weei Geo Enterprise Co., Ltd. | 7.24
Green River Wood (Dongguan) Ltd. | 7.24
Guangming Group Wumahe Furniture Co., Ltd. | 7.24
Guangzhou Maria Yee Furnishings Ltd., Pyla HK, Ltd., and Maria Yee, Inc. | 7.24
Hainan Jong Bao Lumber Co., Ltd., or Jibbon Enterprise Co., Ltd. | 7.24
Hamilton & Spill Ltd. | 7.24
Hang Hai Woodcraft's Art Factory | 7.24
Hualing Furniture (China) Co., Ltd., or Tony House Manufacture (China) Co., Ltd., or Buysell Investments Ltd., or Tony House Industries Co., Ltd. | 7.24
Jardine Enterprise, Ltd. | 7.24
Jiangmen Kinwai Furniture Decoration Co., Ltd. | 7.24
Jiangmen Kinwai International Furniture Co., Ltd. | 7.24
Jiangsu Weifu Group Fullhouse Furniture Manufacturing. Corp. | 7.24
Jiangsu Yuexing Furniture Group Co., Ltd. | 7.24
Jiedong Lehouse Furniture Co., Ltd. | 7.24
King's Way Furniture Industries Co., Ltd., or Kingsyear Ltd. | 7.24
Kuan Lin Furniture (Dong Guan) Co., Ltd., or Kuan Lin Furniture Factory, or Kuan Lin Furniture Co., Ltd. | 7.24
Kunshan Lee Wood Product Co., Ltd. | 7.24
Kunshan Summit Furniture Co., Ltd. | 7.24
Langfang Tiancheng Furniture Co., Ltd. | 7.24
Leefu Wood (Dongguan) Co., Ltd., or King Rich International, Ltd. | 7.24
Link Silver Ltd. (V.I.B.), or Forward Win Enterprises Co. Ltd., or Dongguan Haoshun Furniture Ltd. | 7.24
Locke Furniture Factory, or Kai Chan Furniture Co., Ltd., or Kai Chan (Hong Kong) Enterprise Ltd., or Taiwan Kai Chan Co., Ltd. | 7.24
Longrange Furniture Co., Ltd. | 7.24
Nanhai Baiyi Woodwork Co., Ltd. | 7.24
Nanhai Jiantai Woodwork Co., Ltd., or Fortune Glory Industrial Ltd. (H.K. Ltd) | 7.24
Nantong Dongfang Orient Furniture Co., Ltd. | 7.24
Nantong Yushi Furniture Co., Ltd. | 7.24
Nathan International Ltd., or Nathan Rattan Factory | 7.24
Orient International Holding Shanghai Foreign Trade Co., Ltd. | 7.24
Passwell Corporation, or Pleasant Wave Ltd. | 7.24
Perfect Line Furniture Co., Ltd. | 7.24
Prime Wood International Co., Ltd., or Prime Best International Co., Ltd., or Prime Best Factory, or Liang Huang (Jiaxing) Enterprise Co., Ltd. | 7.24
PuTian JingGong Furniture Co., Ltd. | 7.24
Qingdao Liangmu Co., Ltd. | 7.24
Restonic (Dongguan) Furniture Ltd., or Restonic Far East (Samoa) Ltd. | 7.24
RiZhao SanMu Woodworking Co., Ltd. | 7.24
Season Furniture Manufacturing Co., or Season Industrial Development Co. | 7.24
Sen Yeong International Co., Ltd., or Sheh Hau International Trading Ltd. | 7.24
Shanghai Jian Pu Export & Import Co., Ltd. | 7.24
Shanghai Maoji Imp and Exp Co., Ltd. | 7.24
Sheng Jing Wood Products (Beijing) Co., Ltd., or Telstar Enterprises Ltd. | 7.24
Shenyang Shining Dongxing Furniture Co., Ltd. | 7.24
Shenzhen Forest Furniture Co., Ltd. | 7.24
Shenzhen Jiafa High Grade Furniture Co., Ltd., or Golden Lion International Trading Ltd. | 7.24
Shenzhen New Fudu Furniture Co., Ltd. | 7.24
Shenzhen Wonderful Furniture Co., Ltd. | 7.24
Shenzhen Xiande Furniture Factory | 7.24
Shenzhen Xingli Furniture Co., Ltd. | 7.24
Shun Feng Furniture Co., Ltd. | 7.24
Songgang Jasonwood Furniture Factory, or Jasonwood Industrial Co., Ltd. S.A. | 7.24
Starwood Furniture Manufacturing Co. Ltd. | 7.24
Starwood Industries Ltd. | 7.24
Strongson Furniture (Shenzhen) Co., Ltd., or Strongson Furniture Co., Ltd., or Strongson (HK) Co. | 7.24
Sunforce Furniture (Hui-Yang) Co., Ltd., or Sun Fung Wooden Factory, or Sun Fung Co., or Shin Feng Furniture Co., Ltd., or Stupendous International Co., Ltd. | 7.24
Superwood Co., Ltd., or Lianjiang Zongyu Art Products Co., Ltd. | 7.24
Tarzan Furniture Industries Ltd., or Samso Industries Ltd. | 7.24
Teamway Furniture (Dong Guan) Ltd., or Brittomart Inc. | 7.24
Techniwood Industries Ltd., or Ningbo Furniture Industries Limited, or Ningbo Hengrun Furniture Co., Ltd. | 7.24
Tianjin Fortune Furniture Co., Ltd. | 7.24
Tianjin Master Home Furniture | 7.24
Tianjin Phu Shing Woodwork Enterprise Co., Ltd. | 7.24
Tianjin Sande Fairwood Furniture Co., Ltd. | 7.24
Tube-Smith Enterprise (ZhangZhou) Co., Ltd., or Tube-Smith Enterprise (Haimen) Co., Ltd., or Billonworth Enterprises Ltd. | 7.24
Union Friend International Trade Co., Ltd. | 7.24
U-Rich Furniture (Zhangzhou) Co., Ltd., or U-Rich Furniture Ltd. | 7.24
Wanhengtong Nueevder (Furniture) Manufacture Co., Ltd., or Dongguan Wanengtong Industry Co., Ltd. | 7.24
Woodworth Wooden Industries (Dong Guan) Co., Ltd. | 7.24
Xiamen Yongquan Sci-Tech Development Co., Ltd. | 7.24
Jiangsu XiangSheng Bedtime Furniture Co., Ltd. | 7.24
Xingli Arts & Crafts Factory of Yangchun | 7.24
Yangchun Hengli Co. Ltd. | 7.24
Yeh Brothers World Trade, Inc. | 7.24
Yichun Guangming Furniture Co., Ltd. | 7.24
Yida Co., Ltd., or Yitai Worldwide, Ltd., or Yili Co., Ltd., or Yetbuild Co., Ltd. | 7.24
Yihua Timber Industry Co., Ltd. | 7.24
Zhang Zhou Sanlong Wood Product Co., Ltd. | 7.24
Zhangjiagang Zheng Yan Decoration Co., Ltd. | 7.24
Zhangjiagang Daye Hotel Furniture Co., Ltd. | 7.24
Zhangzhou Guohui Industrial & Trade Co. Ltd. | 7.24
Zhanjiang Sunwin Arts & Crafts Co., Ltd. | 7.24
Zhong Shan Fullwin Furniture Co., Ltd. | 7.24
Zhongshan Fookyik Furniture Co., Ltd. | 7.24
Zhongshan Golden King Furniture Industrial Co., Ltd. | 7.24
Zhoushan For-Strong Wood Co., Ltd. | 7.24
PRC-Wide Rate* | 198.08
* In the Final Determination, the Department inadvertently listed Tech Lane Wood Mfg. and Kee Jia Wood Mfg. separately in the weighted-average dumping margin chart, which may have led parties to conclude that these companies were entitled to a separate rate. This, in fact, is not the case. Subject merchandise produced/exported by Tech Lane Wood Mfg. and Kee Jia Wood Mfg. is subject to the PRC-wide rate.

Within five business days of publication of this notice, the Department will issue instructions to U.S. Customs and Border Protection (“CBP”) to revise the cash deposit rates for the companies listed above that have a separate rate, effective as of the publication of this notice. Further, we will instruct CBP to liquidate all entries of subject merchandise produced and exported by Lacquer Craft, without regard to antidumping duties, because Lacquer Craft is excluded from the antidumping duty order.

This notice is published in accordance with sections 735(d) and 777(i) of the Tariff Act of 1930, as amended.

Dated: November 14, 2006.
Stephen J. Claeys,
Acting Assistant Secretary for Import Administration.

[FR Doc. E6-19585 Filed 11-17-06; 8:45 am]

BILLING CODE 3510-DS-P